DEPARTMENT OF COMMERCE

Foreign-Trade Zones Board

[B-40-2022]

Foreign-Trade Zone 61—San Juan, Puerto Rico; Application for Subzone; Boehringer Ingelheim Animal Health Puerto Rico LLC; Barceloneta, Puerto Rico

An application has been submitted to the Foreign-Trade Zones (FTZ) Board by the Department of Economic Development and Commerce, grantee of FTZ 61, requesting subzone status for the facility of Boehringer Ingelheim Animal Health Puerto Rico LLC, located in Barceloneta, Puerto Rico. The application was submitted pursuant to the provisions of the Foreign-Trade Zones Act, as amended (19 U.S.C. 81a-81u), and the regulations of the FTZ Board (15 CFR part 400). It was formally docketed on September 6, 2022.

The proposed subzone (172 acres) is located at Road # 2 KM 56.7, Barceloneta, Puerto Rico. A notification of proposed production activity has been submitted and is being processed under 15 CFR 400.37 (Doc. B-24-2022).

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is October 24, 2022. Rebuttal comments in response to material submitted during the foregoing period may be submitted during the subsequent 15-day period to November 7, 2022.

A copy of the application will be available for public inspection in the “Online FTZ Information Section” section of the FTZ Board's website, which is accessible via www.trade.gov/ftz.

For further information, contact Camille Evans at Camille.Evans@trade.gov.

Dated: September 7, 2022.
Andrew McGilvray,
Executive Secretary.

[FR Doc. 2022-19625 Filed 9-9-22; 8:45 am]

BILLING CODE 3510-DS-P